INTERNATIONAL TRADE COMMISSION

[Investigation Nos. 731-TA-1438 and 1440 (Final)]

Acetone From Singapore and Spain

Determinations

On the basis of the record ¹ developed in the subject investigations, the United States International Trade Commission (“Commission”) determines, pursuant to the Tariff Act of 1930 (“the Act”), that an industry in the United States is materially injured by reason of imports of acetone from Singapore and Spain, provided for in subheadings 2914.11.10 and 2914.11.50 of the Harmonized Tariff Schedule of the United States, that have been found by the U.S. Department of Commerce (“Commerce”) to be sold in the United States at less than fair value (“LTFV”).2 3

¹ The record is defined in sec. 207.2(f) of the Commission's Rules of Practice and Procedure (19 CFR 207.2(f)).

² Acetone from Singapore: Final Determination of Sales at Less Than Fair Value, 84 FR 56171, October 21, 2019.

³ Acetone from Spain: Final Determination of Sales at Less Than Fair Value, and Final Determination of No Shipments, 84 FR 56166, October 21, 2019.

Background

The Commission, pursuant to section 735(b) of the Act (19 U.S.C. 1673d(b)), instituted these investigations effective February 19, 2019, following receipt of a petition filed with the Commission and Commerce by the Coalition for Acetone Fair Trade, consisting of AdvanSix Inc., Parsippany, New Jersey, Altivia Petrochemicals, LLC, Haverhill, Ohio, and Olin Corporation, Clayton, Missouri. The Commission scheduled the final phase of the investigations following notification of preliminary determinations by Commerce that imports of acetone from Singapore and Spain were being sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on August 26, 2019 (84 FR 44635). The hearing was held in Washington, DC, on October 21, 2019, and all persons who requested the opportunity were permitted to appear in person or by counsel.

The Commission made these determinations pursuant to section 735(b) of the Act (19 U.S.C. 1673d (b)). It completed and filed its determinations in these investigations on December 5, 2019. The views of the Commission are contained in USITC Publication 4997 (December 2019), entitled Acetone from Singapore and Spain: Investigation Nos. 731-TA-1438 and 1440 (Final).

By order of the Commission.
Issued: December 5, 2019.
Lisa Barton,
Secretary to the Commission.

[FR Doc. 2019-26546 Filed 12-9-19; 8:45 am]

BILLING CODE 7020-02-P